DEPARTMENT OF DEFENSE

Department of the Army

[Docket ID: USA-2011-0003]

Privacy Act of 1974; System of Records

AGENCY: Department of the Army, DoD

ACTION: Notice to alter a system of records.

SUMMARY: Department of the Army is altering a system of records notice in its existing inventory of record systems subject to the Privacy Act of 1974 (5 U.S.C. 552a), as amended.

DATES: This proposed action will be effective without further notice on April 14, 2011 unless comments are received which result in a contrary determination.

ADDRESSES: You may submit comments, identified by docket number and/or Regulatory Information Number (RIN) and title, by any of the following methods:

* Federal Rulemaking Portal: http://www.regulations.gov. Follow the instructions for submitting comments.

* Mail: Federal Docket Management System Office, 1160 Defense Pentagon, Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. Leroy Jones at (703) 428-6185, or the Department of the Army, Privacy Office, U.S. Army Records Management and Declassification Agency, 7701 Telegraph Road, Casey Building, Suite 144, Alexandria, VA 22325-3905.

SUPPLEMENTARY INFORMATION: Department of the Army notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on March 8, 2011 to the House Committee on Government Reform, the Senate Committee on Homeland Security and Governmental Affairs, and the Office of Management and Budget (OMB) pursuant to paragraph 4c of Appendix I to OMB Circular No. A-130, “Federal Agency Responsibilities for Maintaining Records About Individuals,” February 20, 1996, 61 FR 6427.

Dated: March 9, 2011.
Morgan F. Park,
Alternate OSD Federal Register Liaison Officer, Department of Defense.

A0027-1k DAJA

System name:

Judge Advocate General Professional Conduct Files (January 20, 2000, 65 FR 3215).

* * * * *

Changes:

System location:

Delete entry and replace with “Primary location: United States Army Office of The Judge Advocate General, Professional Responsibility Branch, 2200 Army Pentagon, Room 2B514, Washington, DC 20310-2200.

Secondary locations: Offices of The Judge Advocate General at Army Commands, Army Service Component Commands, Direct Reporting Units, field operating agencies, installations and activities Army-wide. Official mailing addresses are published as an appendix to the Army's compilation of systems of records notices.”

Categories of records in the system:

Delete entry and replace with “Records include subject's name, current mailing address, complaints with substantiating documents, tasking memoranda, preliminary screening inquiry (PSI) reports and mismanagement inquiry reports (containing sensitive personal information pertaining to the underlying allegations of personal and professional misconduct in witness statements and other documents, and inquiry officer's findings and recommendations), supervisory Judge Advocate recommendations and actions, staff memoranda to Judge Advocate General's Corps leadership, Professional Responsibility Committee opinions, memoranda related to disciplinary actions, responses from subjects, and correspondence with Governmental agencies and professional licensing authorities.”

Authority for maintenance of the system:

Delete entry and replace with “10 U.S.C. 3013, Secretary of the Army; 10 U.S.C. 3037, Judge Advocate General, Deputy Judge Advocate General, and general officers of Judge Advocate General's Corps: appointment; duties; Rules for Courts-Martial (RCM) Rule 109, Manual for Courts-Martial United States (2008 Edition); Army Regulation 690-300, Civilian Personnel Employment; Army Regulation 27-1, Legal Services, Judge Advocate Legal Services; Army Regulation 27-26, Rules of Professional Conduct for Lawyers.”

Purpose(s):

Delete entry and replace with “To protect the integrity of the Army and government legal profession; to assist The Judge Advocate General in the evaluation, management, administration, and regulation of, and inquiry into, the delivery of legal services by offices and personnel under his jurisdiction; to document founded violations of the rules of professional responsibility and mismanagement; to take adverse action and appropriate disciplinary action against those found to have violated the rules of professional responsibility or committed mismanagement; to record disposition of professional responsibility and mismanagement complaints; and to report founded violations of the rules of professional responsibility to professional licensing authorities and to current and prospective government employers.”

Routine uses of records maintained in the system, including categories of users and the purposes of such uses:

Delete entry and replace with “In addition to those disclosures generally permitted under 5 U.S.C. 552a(b) of the Privacy Act of 1974, records contained within this system may specifically be disclosed outside the DoD as a routine use pursuant to 5 U.S.C. 552a(b)(3) as follows:

To professional licensing authorities (e.g., state and federal disciplinary agencies); and to current and prospective government employers.

The DoD `Blanket Routine Uses' set forth at the beginning of the Army's compilation of systems of records notices shall also apply to this system.”

* * * * *

Storage:

Delete entry and replace with “Paper records in file folders and electronic computer records.”

* * * * *

Retention and disposal:

Delete entry and replace with “Professional conduct inquiry founded files maintained at the United States Army Office of The Judge Advocate General, Professional Responsibility Branch are destroyed by shredding paper copies and erasure off computers in the local office 5 years after the Judge Advocate Legal Service (JALS) member leaves the JALS or when the case is closed for non-JALS members, unless the non-JALS member is the subject of another monitoring, open, or founded file, then when the file is closed.

Legal office mismanagement inquiry founded files maintained at the United States Army Office of The Judge Advocate General, Professional Responsibility Branch are destroyed by shredding paper copies and erasure off computers 5 years after the Judge Advocate Legal Service (JALS) member leaves the JALS or when the case is closed unless the JALS member is the subject of another monitoring, open, or founded file, then when the file is closed, whichever is applicable.

Professional conduct inquiry and legal office mismanagement inquiry unfounded files or inquiry-not-warranted files maintained at the United States Army Office of The Judge Advocate General, Professional Responsibility Branch are destroyed 3 years after the case is closed.

Professional conduct inquiry founded, and unfounded or inquiry-not-warranted files and legal office mismanagement inquiry founded, and unfounded or inquiry-not-warranted files, maintained in other Judge Advocates General (JAG) offices are destroyed by shredding paper copies and erasure off computers in those offices 3 years after the case is closed.”

System manager(s) and address:

Delete entry and replace with “United States Army Office of The Judge Advocate General, Professional Responsibility Branch, 2200 Army Pentagon, Room 2B514, Washington, DC 20310-2200.”

Notification procedure:

Delete entry and replace with “Individuals seeking to determine whether information about themselves is contained in this system of records should address written inquiries to the United States Army Office of The Judge Advocate General, Professional Responsibility Branch, 2200 Army Pentagon, Room 2B514, Washington, DC 20310-2200.

All written inquiries should provide the full name and current mailing address and any details which may assist in locating record, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking access to records about themselves should address written inquiries to the United States Army Office of The Judge Advocate General, Professional Responsibility Branch, 2200 Army Pentagon, Room 2B514, Washington, DC 20310-2200.

All written inquiries should provide the full name, and current mailing address and any details which may assist in locating record, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Records sources categories:

Delete entry and replace with “Information is received from individuals, from federal, state, and local authorities; preliminary screening inquiry report, other Army records, state bar records, law enforcement records, and educational institution records.”

A0027-1k DAJA

System name:

Judge Advocate General Professional Conduct Files.

System location:

United States Army Office of The Judge Advocate General, Professional Responsibility Branch, 2200 Army Pentagon, Room 2B514, Washington, DC 20310-2200.

Secondary locations: Offices of The Judge Advocate General at Army Commands, Army Service Component Commands, Direct Reporting Units, field operating agencies, installations and activities Army-wide. Official mailing addresses are published as an appendix to the Army's compilation of systems of records notices.

Categories of individuals covered by the system:

Judge Advocates, civilian attorneys of the Judge Advocate Legal Service, and civilian attorneys subject to the disciplinary authority of the Judge Advocate General who have been the subject of a complaint related to their impairment, professional conduct or mismanagement or when a court has convicted, diverted, or sanctioned the attorney, or has found contempt or an ethics violation, or the attorney has been disciplined elsewhere.

Categories of records in the system:

Records include, subject's name, current mailing address, complaints with substantiating documents, tasking memoranda, preliminary screening inquiry (PSI) reports and mismanagement inquiry reports (containing sensitive personal information pertaining to the underlying allegations of personal and professional misconduct in witness statements and other documents, and inquiry officer's findings and recommendations), supervisory Judge Advocate recommendations and actions, staff memoranda to Judge Advocate General's Corps leadership, Professional Responsibility Committee opinions, memoranda related to disciplinary actions, responses from subjects, and correspondence with Governmental agencies and professional licensing authorities.

Authority for maintenance of the system:

10 U.S.C. 3013, Secretary of the Army; 10 U.S.C. 3037, Judge Advocate General, Deputy Judge Advocate General, and general officers of Judge Advocate General's Corps: Appointment; duties; Rules for Courts-Martial (RCM) Rule 109, Manual for Courts-Martial United States (2008 Edition); Army Regulation 690-300, Civilian Personnel Employment; Army Regulation 27-1, Legal Services, Judge Advocate Legal Services; Army Regulation 27-26, Rules of Professional Conduct for Lawyers.

Purpose(s):

To protect the integrity of the Army and government legal profession; to assist The Judge Advocate General in the evaluation, management, administration, and regulation of, and inquiry into, the delivery of legal services by offices and personnel under his jurisdiction; to document founded violations of the rules of professional responsibility and mismanagement; to take adverse action and appropriate disciplinary action against those found to have violated the rules of professional responsibility or committed mismanagement; to record disposition of professional responsibility and mismanagement complaints; and to report founded violations of the rules of professional responsibility to professional licensing authorities and to current and prospective government employers.

Routine uses of records maintained in the system, including categories of users and the purposes of such uses:

In addition to those disclosures generally permitted under 5 U.S.C. 552a(b) of the Privacy Act of 1974, records contained within this system may specifically be disclosed outside the DoD as a routine use pursuant to 5 U.S.C. 552a(b)(3) as follows:

To professional licensing authorities (e.g., State and Federal disciplinary agencies); and to current and prospective government employers.

The DoD `Blanket Routine Uses' set forth at the beginning of the Army's compilation of systems of records notices shall also apply to this system.

Policies and practices for storing, retrieving, accessing, retaining, and disposing of records in the system:

Storage:

Paper records in file folders and electronic computer records.

Retrievability:

By subject's name.

Safeguards:

Records are maintained in locked offices and/or in locked file cabinets in secured building or on military installations protected by police patrols. All information is maintained in secured areas accessible only to designated individuals having official need therefore in the performance of official duties. Computer stored information is password protected.

Retention and disposal:

Professional conduct inquiry founded files maintained at the United States Army Office of The Judge Advocate General, Professional Responsibility Branch are destroyed by shredding paper copies and erasure off computers in the local office 5 years after the Judge Advocate Legal Service (JALS) member leaves the JALS or when the case is closed for non-JALS members, unless the non-JALS member is the subject of another monitoring, open, or founded file, then when the file is closed.

Legal office mismanagement inquiry founded files maintained at the United States Army Office of The Judge Advocate General, Professional Responsibility Branch are destroyed by shredding paper copies and erasure off computers 5 years after the Judge Advocate Legal Service (JALS) member leaves the JALS or when the case is closed unless the JALS member is the subject of another monitoring, open, or founded file, then when the file is closed, whichever is applicable.

Professional conduct inquiry and legal office mismanagement inquiry unfounded files or inquiry-not-warranted files maintained at the United States Army Office of The Judge Advocate General, Professional Responsibility Branch are destroyed 3 years after the case is closed.

Professional conduct inquiry founded, and unfounded or inquiry-not-warranted files and legal office mismanagement inquiry founded, and unfounded or inquiry-not-warranted files, maintained in other Judge Advocates General (JAG) offices are destroyed by shredding paper copies and erasure off computers in those offices 3 years after the case is closed.

System manager(s) and address:

United States Army Office of The Judge Advocate General, Professional Responsibility Branch, 2200 Army Pentagon, Room 2B514, Washington, DC 20310-2200.

Notification procedure:

Individuals seeking to determine whether information about themselves is contained in this system of records should address written inquiries to the United States Army Office of The Judge Advocate General, Professional Responsibility Branch, 2200 Army Pentagon, Room 2B514, Washington, DC 20310-2200.

All written inquiries should provide the full name and current mailing address and any details which may assist in locating record, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Record access procedures:

Individuals seeking access to records about themselves should address written inquiries to the United States Army Office of The Judge Advocate General, Professional Responsibility Branch, 2200 Army Pentagon, Room 2B514, Washington, DC 20310-2200.

All written inquiries should provide the full name and current mailing address and any details which may assist in locating record, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Contesting record procedures:

The Army's rules for accessing records, and for contesting contents and appealing initial agency determinations are contained in Army Regulation 340-21; 32 CFR part 505; or may be obtained from the system manager.

Records sources categories:

Information is received from individuals, from federal, state, and local authorities; preliminary screening inquiry report, other Army records, state bar records, law enforcement records, and educational institution records.

Exemptions claimed for the system:

None.

[FR Doc. 2011-5908 Filed 3-14-11; 8:45 am]

BILLING CODE 5001-06-P